DEPARTMENT OF COMMERCE

International Trade Administration

[A-552-802]

Certain Frozen Warmwater Shrimp From the Socialist Republic of Vietnam: Final Results and Final Partial Rescission of Antidumping Duty Administrative Review

AGENCY: Import Administration, International Trade Administration, Department of Commerce.

SUMMARY: On March 6, 2008, the Department of Commerce (“the Department”) published in the Federal Register the preliminary results of the second administrative review of the antidumping duty order on certain frozen warmwater shrimp from the Socialist Republic of Vietnam (“Vietnam”). Certain Frozen Warmwater Shrimp from the Socialist Republic of Vietnam: Preliminary Results, Preliminary Partial Rescission and Final Partial Rescission of the Second Administrative Review, 73 FR 12127 (March 6, 2008) (“Preliminary Results”). We gave interested parties an opportunity to comment on the Preliminary Results. Based upon our analysis of the comments and information received, we made changes to the margin calculations for the final results. We find that certain manufacturers/exporters have not sold subject merchandise at less than normal value during the period of review (“POR”) February 1, 2006, through January 31, 2007.

EFFECTIVE DATE: September 9, 2008.

FOR FURTHER INFORMATION CONTACT: Irene Gorelik, AD/CVD Operations, Office 9, Import Administration, International Trade Administration, U.S. Department of Commerce, 14th Street and Constitution Avenue, NW., Washington, DC 20230; telephone: (202) 482-6905.

SUPPLEMENTARY INFORMATION:

Background

On March 6, 2008, the Department published the Preliminary Results of this administrative review. See Preliminary Results at 73 FR 12127. On March 26, 2008, the mandatory respondents ¹ submitted additional surrogate value information. On April 3, 2008, we extended the deadline for parties to submit the case briefs and rebuttal briefs to May 7, 2008 and May 12, 2008, respectively. On April 7, 2008, the Ad Hoc Shrimp Trade Action Committee (“Petitioner”) filed a request for a public hearing. On May 9, 2008, we extended the deadline to file rebuttal briefs to May 14, 2008. On May 22, 2008, the Department extended the deadline for the completion of the final results of this review, including our analysis of issues raised in case or rebuttal briefs, until September 2, 2008. See Certain Frozen Warmwater Shrimp from Thailand and the Socialist Republic of Vietnam: Notice of Extension of Time Limit for the Final Results of the Second Administrative Reviews 73 FR 29738 (May 22, 2008).

¹ The mandatory respondents are: Minh Phu Seafood Export Import Corporation (and affiliated Minh Qui Seafood Co., Ltd. and Minh Phat Seafood Co., Ltd.), Minh Phu Seafood Corporation; Minh Phu Seafood Corp., Minh Qui Seafood Co., Ltd., Minh Qui Seafood, Minh Phat Seafood Co., Ltd., Minh Phat Seafood, (collectively, “Minh Phu”) and Camau Frozen Seafood Processing Import Export Corporation (“Camimex”).

On May 7, 2008, the mandatory respondents, certain separate-rate respondents, Petitioner, Grobest & I-Mei Industrial (Vietnam) Co., Ltd. (“Grobest”), and Vietnam Fish One Co., Ltd. (“Fish-One”) filed case briefs. On May 14, 2008, Petitioner, the mandatory respondents, Grobest, and Fish-One filed rebuttal briefs. On May 21, 2008, Petitioner withdrew its hearing request, leaving no public hearing request on the record.

Analysis of Comments Received

All issues raised in the case and rebuttal briefs by parties to these reviews are addressed in the Antidumping Duty Order on Certain Frozen Warmwater Shrimp from the Socialist Republic of Vietnam: Issues and Decision Memorandum for the Second Administrative Review, dated September 2, 2008, which is hereby adopted by this notice (“Issues and Decision Memo”). A list of the issues which parties raised and to which we respond in the Issues and Decision Memo is attached to this notice as an Appendix. The Issues and Decision Memo is a public document and is on file in the Central Records Unit (“CRU”), Main Commerce Building, Room 1117, and is accessible on the Web at http://www.trade.gov/ia. The paper copy and electronic version of the memorandum are identical in content.

Final Rescission of Review

In the Preliminary Results, the Department issued a notice of intent to rescind this administrative review with respect to: Bac Lieu Fisheries Company Limited (“Bac Lieu”), Khanh Loi Trading (“Khanh Loi”), Pataya Food Industry (Vietnam) Ltd. (“Pataya”), Seaprodex, Bentre Aquaproduct Imports & Exports (“Bentre”), Hanoi Seaproducts Import Export Corporation (“Seaprodex Hanoi”), and Cam Ranh Seafoods Processing Enterprise Company (“Camranh”), which informed the Department that they did not export the subject merchandise to the United States during the POR. See Preliminary Results at 12129.

Subsequent to the Preliminary Results, no information was submitted on the record indicating that the above companies made sales to the United States of subject merchandise during the POR. Thus, in accordance with 19 CFR 351.213(d)(3) and consistent with our practice, we are rescinding this review with respect to the seven above-mentioned companies for the period of February 1, 2006, through January 31, 2007.

Changes Since the Preliminary Results

Based on our analysis of information on the record of these reviews, and comments received from the interested parties, we have made changes to the margin calculations for certain respondents.

We have updated the surrogate value for labor and surrogate financial ratios used in the Preliminary Results. For further details see Issues and Decision Memo at Comments 3 and 4 and Antidumping Duty Administrative Review of Certain Frozen Warmwater Shrimp from the Socialist Republic of Vietnam: Surrogate Values for the Final Results, dated September 2, 2008. In addition, we have made company-specific changes since the Preliminary Results. Specifically, we have performed clerical error corrections for Minh Phu. For further details on these company-specific changes, see Issues and Decision Memo at Comment 8.

Scope of the Order

The scope of this order includes certain frozen warmwater shrimp and prawns, whether wild-caught (ocean harvested) or farm-raised (produced by aquaculture), head-on or head-off, shell-on or peeled, tail-on or tail-off,² deveined or not deveined, cooked or raw, or otherwise processed in frozen form.

² “Tails” in this context means the tail fan, which includes the telson and the uropods.

The frozen warmwater shrimp and prawn products included in the scope of this order, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this order. In addition, food preparations, which are not “prepared meals,” that contain more than 20 percent by weight of shrimp or prawn are also included in the scope of this order.

Excluded from the scope are: (1) Breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of this order is dispositive.

Separate Rates

In our Preliminary Results, we determined that the mandatory respondents, Minh Phu and Camimex, as well as certain separate-rate respondents, met the criteria for the application of a separate rate.³ We have not received any information since the issuance of the Preliminary Results that provides a basis for reconsideration of these determinations. Therefore, the Department continues to find each of these entities meet the criteria for a separate rate. However, in the “Final Results of the Review” section below, the Department has listed the qualifying additional trade names for each company granted a separate rate in this review. For a detailed discussion of the trade names not granted separate-rate status under cover of a separate-rate recipient, see Issues and Decision Memo at Comment 7.

³ These other separate rate companies are: Amanda Foods (Vietnam) Ltd.; {C.P. Vietnam Livestock Co. Ltd.; C P Vietnam Livestock Co. Ltd.; C P Livestock} (collectively, CP Vietnam); {Ca Mau Seafood Joint Stock Company (“SEAPRIMEXCO”); Minh Hai Sea Products Import Export Company (Seaprimex Co)} (collectively, Seaprimexco); {Cadovimex Seafood Import-Export and Processing Joint Stock Company (“CADOVIMEX”); Cai Doi Vam Seafood Import-Export Company (Cadovimex)} (collectively, Cadovimex); {Cafatex Fishery Joint Stock Corporation (“Cafatex Corp.”); Cantho Animal Fisheries Product Processing Export Enterprise (Cafatex)} (collectively, Cafatex); {Can Tho Agricultural and Animal Product Import Export Company (“CATACO”); Can Tho Agricultural Products aka CATACO} (collectively, Cataco); {Coastal Fishery Development; Coastal Fisheries Development Corporation (Cofidec); Coastal Fisheries Development Corporation (Cofidec)} (collectively, Cofidec); {Cuulong Seaproducts Company (“Cuu Long Seapro”); Cuu Long Seaproducts Limited (Cuulong Seapro)} (collectively, Cuulong Seapro); Danang Seaproducts Import Export Corporation (“Seaprodex Danang”) and Tho Quang Seafood Processing & Export Company; {Thuan Phuoc Seafoods and Trading Corporation aka Frozen Seafoods Factory 32 aka Seafoods and Foodstuff Factory; Frozen Seafoods Factory No. 32 aka thuan phuoc); Frozen Seafoods Fty aka above Thuan Phuoc} (collectively, Thuan Phuoc); {Grobest & I-Mei Industry Vietnam; Grobest} (collectively, Grobest); Investment Commerce Fisheries Corporation (“Incomfish”); Kim Anh Co., Ltd.; {Minh Hai Export Frozen Seafood Processing Joint Stock Company; Minh Hai Export Frozen Seafood Processing Joint Stock Company (“Minh Hai Jostoco”)} (collectively, Minh Hai Jostoco); Minh Hai Joint-Stock Seafoods Processing Company (“Seaprodex Minh Hai”); Ngoc Sinh Private Enterprise aka Ngoc Sinh Seafoods (collectively, Ngoc Sinh); Nha Trang Fisheries Joint Stock Company (“Nha Trang Fisco”); Nha Trang Seaproduct Company (“Nha Trang Seafoods”); Phu Cuong Seafood Processing and Import-Export Co., Ltd.; {Phuong Nam Co. Ltd.; Phuong Nam Seafood Co. Ltd.} (collectively, Phuong Nam); Sao Ta Foods Joint Stock Company (“Fimex VN”); Soc Trang Aquatic Products and General Import Export Company (“Stapimex”); UTXI Aquatic Products Processing Company; Viet Foods Co., Ltd. (“Viet Foods”); {Viet Hai Seafoods Company Ltd. (“Vietnam Fish One Co. Ltd.”); Viet Hai Seafoods Company Ltd. (“Vietnam Fish One Co. Ltd”); Vietnam Fish-One Co., Ltd.} (collectively, Fish-One); and Vinh Loi Import Export Company (“Vimexco”).

Separate Rate Calculation

In the Preliminary Results, we stated that the Department employed a limited examination methodology, as it did not have the resources to examine all companies for which a review request was made and selected two exporters, Minh Phu and Camimex, as mandatory respondents in this review. See Preliminary Results at 12133. Additionally, 26 ⁴ additional companies (listed in footnote three) submitted timely information as requested by the Department and remained subject to review as cooperative separate rate respondents. The Department assigned a rate to the remaining 26 cooperative separate rate respondents not selected for individual examination.

⁴ Although we stated in the Preliminary Results that 27 companies received a separate rate, two of the companies listed separately (Ngoc Sinh Private Enterprise and Ngoc Sinh Seafoods) are trade names of the same company. In actuality, 26 companies/groups have received a separate rate.

In the Preliminary Results, we noted that the statute and the Department's regulations do not directly address the establishment of a rate to be applied to individual companies not selected for examination where the Department limited its examination in an administrative review pursuant to section 777(A)(c)(2) of the Tariff Act of 1930, as amended (“the Act”). We further explained that the Department's practice in this regard, in cases involving limited selection based on exporters accounting for the largest volumes of trade, has been to weight-average the rates for the selected companies excluding zero and de minimis rates and rates based entirely on adverse facts available (“AFA”). For purposes of the Preliminary Results, however, we did assign the 26 separate rate respondents a dumping margin of de minimis because the mandatory respondents, Minh Phu and Camimex, both received de minimis rates.

However, in the Preliminary Results, the Department also invited comments from interested parties regarding the methodology used to determine the rate for non-selected companies. Id., at 12135-36. Specifically, we invited interested parties to comment on the rate to be applied to the non-selected companies, considering, but not limited to, the following factors: (a) The Department has limited its examination of respondents pursuant to section 777A(c)(2)(B) of the Act, (b) section 735(c)(5) provides that, with some exceptions, the all-others rate in an investigation is to be calculated excluding any margins that are zero, de minimis or based entirely on facts available, and (c) the SAA states that with respect to the calculation of the all-others rate in such cases, “the expected method will be to weight-average the zero and de minimis margins and margins determined pursuant to the facts available, provided that volume data is available. However, if this method is not feasible, or if it results in an average that would not be reasonably reflective of potential dumping margins for non-investigated exporters or producers, Commerce may use other reasonable methods.” See SAA at 873. We received comments on this issue from Petitioner, the mandatory respondents, Fish-One, Grobest, and certain non-selected, cooperative separate-rate respondents. These comments were addressed in the Issues and Decision Memorandum at Comment 6.

Based on the comments we received, for the final results of this review, we have determined that, because the circumstances of this review are similar to those of the preceding review, we will assign the margin of 4.57 percent, the margin calculated for cooperative separate rate respondents in the underlying investigation, to the SR Respondents in the instant review with no history of a calculated margin, as a reasonable method which is reflective of the range of commercial behavior demonstrated by exporters of the subject merchandise during a very recent period in time. However, for those SR Respondents that received a calculated rate in a prior segment, we are assigning that calculated rate as the company's separate rate in this review. Specifically, for Fish-One and Grobest, we are assigning the rates most recently calculated for both companies (zero) as their separate rate in the instant review because these rates are more recent than the separate rate calculated in the LTFV and are based on the company's own data. Additionally, for Minh Hai Joint-Stock Seafoods Processing Company (“Seaprodex Minh Hai”), we are also assigning, as a separate rate, the most recent calculated rate of 4.30 percent, from the LTFV, which was based on the company's own data. For all other SR Respondents in the instant review, the separate rate is 4.57 percent. For additional details, see Issues and Decision Memorandum at Comment 6.

Vietnam-Wide Entity

In the Preliminary Results, the Department determined that 35 companies which did not demonstrate eligibility for a separate rate are properly considered part of the Vietnam-Wide entity.⁵ As these companies failed to respond to the Department's quantity and value questionnaire, we found it appropriate to apply facts available to the Vietnam-Wide entity, which includes these entities, in accordance with sections 776(a)(2)(A) and (B) of the Act. Moreover, because the Vietnam-Wide entity did not respond to the Department's questionnaires, we found it did not cooperate to the best of its ability and therefore, determined that adverse facts available (“AFA”) was appropriate pursuant to section 776(b) of the Act. Since the Preliminary Results, none of these companies submitted comments regarding these findings. Therefore, we continue to find that it is appropriate to apply facts available with an adverse inference with respect to the Vietnam-Wide entity (including the 35 non-responsive companies/groups) in accordance with section 776(b) of the Act.

⁵ See Preliminary Results at footnote 10 for a list of the 35 unresponsive companies.

Final Results of the Review

The Department has determined that the following final dumping margins exist for the period February 1, 2006, through January 31, 2007:

Certain Frozen Warmwater Shrimp From Vietnam
Manufacturer/exporter | Weighted-average margin (percent)
Minh Phat Seafood Co., Ltd., aka Minh Phat Seafood aka Minh Phu Seafood Export Import Corporation (and affiliates Minh Qui Seafood Co., Ltd. and Minh Phat Seafood Co., Ltd.) aka Minh Phu Seafood Corp. aka Minh Phu Seafood Corporation aka Minh Qui Seafood aka Minh Qui Seafood Co., Ltd | ᵃ 0.01
Camau Frozen Seafood Processing Import Export Corporation (“CAMIMEX”), aka Camimex, aka Camau Seafood Factory No. 4, aka Camau Seafood Factory No. 5 | 0.00
Amanda Foods (Vietnam) Ltd | 4.57
C.P. Vietnam Livestock Co. Ltd., aka C P Vietnam Livestock Co. Ltd., aka C P Livestock | 4.57
Cadovimex Seafood Import-Export and Processing Joint Stock Company (“CADOVIMEX”) aka Cai Doi Vam Seafood Import-Export Company (Cadovimex) | 4.57
Cafatex Fishery Joint Stock Corporation (“Cafatex Corp.”) aka Cantho Animal Fisheries Product Processing Export Enterprise (Cafatex), aka Cafatex, aka Cafatex Vietnam, aka Xi Nghiep Che Bien Thuy Suc San Xuat Khau Can Tho, aka Cas, aka Cas Branch, aka Cafatex Saigon, aka Cafatex Fishery Joint Stock Corporation, aka Cafatex Corporation, aka Taydo Seafood Enterprise | 4.57
Can Tho Agricultural and Animal Product Import Export Company (“CATACO”) aka Can Tho Agricultural Products aka CATACO ⁶ | 4.57
Coastal Fishery Development aka Coastal Fisheries Development Corporation (Cofidec) aka Coastal Fisheries Development Corporation (Cofidec) | 4.57
Cuulong Seaproducts Company (“Cuu Long Seapro”) aka Cuu Long Seaproducts Limited (Cuulong Seapro) | 4.57
Danang Seaproducts Import Export Corporation (“Seaprodex Danang”) aka Tho Quang Seafood Processing & Export Company, aka Seaprodex Danang, aka Tho Quang Seafood Processing And Export Company, aka Tho Quang | 4.57
Frozen Seafoods Factory No. 32, aka Frozen Seafoods Fty, aka Thuan Phuoc, aka Thuan Phuoc Seafoods and Trading Corporation, aka Frozen Seafoods Factory 32, aka Seafoods and Foodstuff Factory | 4.57
Grobest & I-Mei Industry Vietnam, aka Grobest | ᵇ 0.00
Investment Commerce Fisheries Corporation (“Incomfish”) | 4.57
Kim Anh Co., Ltd | 4.57
Minh Hai Export Frozen Seafood Processing Joint Stock Company, aka Minh Hai Jostoco, aka Minh Hai Export Frozen Seafood Processing Joint-Stock Company (“Minh Hai Jostoco”), aka Minh Hai Export Frozen Seafood Processing Joint-Stock Company, aka Minh Hai Joint Stock Seafood Processing Joint-Stock Company, aka Minh Hai Export Frozen Seafood Processing Joint-Stock Co. ⁷ | 4.57
Minh Hai Joint-Stock Seafoods Processing Company (“Seaprodex Minh Hai”) | 4.30
Minh Hai Sea Products Import Export Company (Seaprimex Co), aka Ca Mau Seafood Joint Stock Company (“SEAPRIMEXCO”) | 4.57
Ngoc Sinh Private Enterprise, aka Ngoc Sinh Seafoods | 4.57
Nha Trang Fisheries Joint Stock Company (“Nha Trang Fisco”) | 4.57
Nha Trang Seaproduct Company (“Nha Trang Seafoods”) | 4.57
Phu Cuong Seafood Processing and Import-Export Co., Ltd | 4.57
Phuong Nam Co. Ltd., aka Phuong Nam Seafood Co. Ltd | 4.57
Sao Ta Foods Joint Stock Company (“Fimex VN”), aka Sao Ta Seafood Factory | 4.57
Soc Trang Aquatic Products and General Import Export Company (“Stapimex”) | 4.57
UTXI Aquatic Products Processing Company, aka UT XI Aquatic Products Processing Company, aka UT-XI Aquatic Products Processing Company, aka UTXI, aka UTXI Co. Ltd., aka Khanh Loi Seafood Factory, aka Hoang Phuong Seafood Factory ⁸ | 4.57
Viet Foods Co., Ltd. (“Viet Foods”) | 4.57
Viet Hai Seafoods Company Ltd. (“Vietnam Fish One Co. Ltd.”) aka Vietnam Fish-One Co., Ltd | ᵇ 0.00
Vinh Loi Import Export Company, aka Vimexco, aka Vinh Loi Import/Export Co., aka VIMEX, aka Vinhloi Import Export Company, aka Vinh Loi Import-Export Company | 4.57
Vietnam-Wide Rate ⁹ | 25.76
ᵃ (de minimis).
ᵇ (zero).

The Department will disclose calculations performed for these final results to the parties within five days of the date of publication of this notice in accordance with 19 CFR 351.224(b).

⁶ We continue to find that the separate rate granted to Cataco is limited to only Cataco's exports of subject merchandise during the POR. Cataco's separate rate does not apply to Cantho Import-Export Seafood Joint Stock Company, aka Caseamex. For a detailed discussion, see Issue and Decision Memorandum at Comment 7.

⁷ We note that we have not extended Minh Hai Jostoco's separate-rate status to: Kien Cuong Seafood Processing Import Export Joint-Stock Company (“Kien Cuong”) and Viet Cuong Seafood Processing Import Export Joint-Stock Company (“Viet Cuong”). For a detailed discussion, see Issues and Decision Memorandum at Comment 7.

⁸ We note that we have not extended UTXI's separate-rate status to: UTXI Aquatic Products Processing Corporation. For a detailed discussion, see Issues and Decision Memorandum at Comment 7.

⁹ The Vietnam-Wide entity includes: AAAS Logistics; Agrimex; American Container Line; An Giang Fisheries Import and Export Joint Stock Company (Agifish); Angiang Agricultural Technology Service Company; Bentre Frozen Aquaproduct Exports; Can Tho Seafood Exports; Cautre Enterprises; Dong Phuc Huynh; General Imports & Exports; Hacota; Hai Thuan Export Seaproduct Processing Co., Ltd.; Hai Viet; Hatrang Frozen Seaproduct Fty; Hoa Nam Marine Agricultural; Lamson Import-Export Foodstuffs Corporation; Nha Trang Company Limited; Nha Trang Fisheries Co. Ltd.; Saigon Orchide; Sea Product; Sea Products Imports & Exports; Seafood Processing Imports-Exports; Sonacos; Song Huong ASC Joint Stock Company; Special Aquatic Products Joint Stock Company (“Seaspimex”); Tacvan Frozen Seafoods Processing Export Company; Thami Shipping & Airfreight; Thanh Long; Thien Ma Seafood; Tourism Material and Equipment Company (Matourimex Hochiminh City Branch); Truc An Company; Vietnam Northern Viking Technology Co. Ltd.; Vietnam Northern Viking Technologie Co Ltd.; Vilfood Co.; Vita; V N Seafoods.

Assessment Rates

Upon issuance of the final results, the Department will determine, and U.S. Customs and Border Protection (“CBP”) shall assess, antidumping duties on all appropriate entries. The Department intends to issue assessment instructions to CBP 15 days after the date of publication of the final results of review. Pursuant to 19 CFR 351.212(b)(1), we will calculate importer-specific (or customer) ad valorem duty assessment rates based on the ratio of the total amount of the dumping margins calculated for the examined sales to the total entered value of those same sales. We will instruct CBP to assess antidumping duties on all appropriate entries covered by this review if any importer-specific assessment rate calculated in the final results of this review is above de minimis.

Cash Deposit Requirements

The following cash deposit requirements will be effective upon publication of these final results of this administrative review for all shipments of the subject merchandise entered, or withdrawn from warehouse, for consumption on or after the publication date, as provided for by section 751(a)(2)(C) of the Act: (1) For the exporters listed above, the cash deposit rate will be established in these final results of review (except, if the rate is zero or de minimis, i.e., less than 0.5 percent, a zero cash deposit rate will be required for that company); (2) for previously investigated or reviewed Vietnamese and non-Vietnamese exporters not listed above that have separate rates, the cash deposit rate will continue to be the exporter-specific rate published for the most recent period; (3) for all Vietnamese exporters of subject merchandise which have not been found to be entitled to a separate rate, the cash deposit rate will be the Vietnamese-wide rate of 25.76 percent; and (4) for all non-Vietnamese exporters of subject merchandise which have not received their own rate, the cash deposit rate will be the rate applicable to the Vietnamese exporters that supplied that non-Vietnamese exporter. These deposit requirements, when imposed, shall remain in effect until publication of the final results of the next administrative review.

Notification of Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department's presumption that reimbursement of antidumping duties occurred and the subsequent assessment of doubled antidumping duties.

This notice also serves as a reminder to parties subject to administrative protective order (“APO”) of their responsibility concerning the disposition of proprietary information disclosed under APO as explained in the administrative protective order itself. Timely written notification of the return/destruction of APO materials or conversion to judicial protective order is hereby requested. Failure to comply with the regulations and the terms of an APO is a sanctionable violation.

This notice of final results of this administrative review is issued and published in accordance with sections 751(a)(1) and 777(i) of the Act, 19 CFR 351.213, and 19 CFR 351.221(b)(4).

Dated: September 2, 2008.
David M. Spooner,
Assistant Secretary for Import Administration.

Appendix I

Comment 1: Surrogate Country

Comment 2: Raw Shrimp Surrogate Value

Comment 3: Surrogate Financial Ratios

Comment 4: Wage Rate Calculation

Comment 5: Treatment of Sales with Negative Margins (“Zeroing”)

Comment 6: Separate Rate (“SR”) Calculation Methodology

Comment 7: Separate-Rate Status for Additional Trade Names

Comment 8: Minh Phu Group's Importer-Specific Assessment Clerical Error

[FR Doc. E8-20927 Filed 9-8-08; 8:45 am]

BILLING CODE 3510-DS-P